DEPARTMENT OF COMMERCE

International Trade Administration

[A-201-805]

Certain Circular Welded Non-Alloy Steel Pipe from Mexico; Extension of Time Limit for Preliminary Results of Antidumping Duty Administrative Review

AGENCY: Import Administration, International Trade Administration, Department of Commerce.

FOR FURTHER INFORMATION CONTACT: Maryanne Burke or Robert James, AD/CVD Operations, Office 7, Import Administration, International Trade Administration, U.S. Department of Commerce, 14th Street and Constitution Avenue NW, Washington, DC 20230; telephone: (202) 482-5604 or (202) 482-0649, respectively.

SUPPLEMENTARY INFORMATION:

Background

On December 1, 2008, the Department of Commerce (the Department) received a timely request from interested party U.S. Steel Corporation to conduct an administrative review of the antidumping duty order on certain circular welded non-alloy steel pipe from Mexico.¹ On December 24, 2008, the Department published a notice of initiation of this administrative review, covering the period of November 1, 2007 to October 31, 2008. See Initiation of Antidumping and Countervailing Duty Administrative Reviews and Request for Revocation in Part, 73 FR 79055 (December 24, 2008). The current deadline for the preliminary results of this review is August 2, 2009.

¹ Because the last day of the anniversary month of this order, November 30, 2008, fell on a Sunday, petitioners filed their request for review on the next business day, Monday, December 1, 2008.

Extension of Time Limits for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds it is not practicable to complete the preliminary results of this review within the original time frame because we require additional time to analyze Tuberia Nacional, S.A. de C.V.'s (TUNA's) claim that it did not have exports, sales or entries of subject merchandise to the United States during the period of review. See TUNA's “no shipment” letter to the Department, dated January 23, 2009. In light of our ongoing changed circumstances review, more time is also necessary to consider the relationship between Ternium Mexico, S.A. de C.V. and Hylsa, S.A. de C.V, a mandatory respondent in the instant review. See Preliminary Results of Antidumping Duty Changed Circumstances Review: Certain Circular Welded Non-Alloy Steel Pipe and Tube from Mexico, 74 FR 28883 (June 18, 2009). Accordingly, the Department is extending the time limit for completion of the preliminary results of this administrative review until no later than November 30, 2009, which is 365 days from the last day of the anniversary month. We intend to issue the final results no later than 120 days after publication of the preliminary results notice.

This extension is issued and published in accordance with sections 751(a)(3)(A) and 777(i) of the Act.

Dated: July 15, 2009.
John M. Andersen,
Acting Deputy Assistant Secretary for Antidumping and Countervailing Duty Operations.

[FR Doc. E9-17278 Filed 7-20-09; 8:45 am]

BILLING CODE 3510-DS-S